DEPARTMENT OF HOMELAND SECURITY

Coast Guard

[Docket No. USCG-2011-1156]

Guidance Regarding Inspection and Certification of Vessels Under the Maritime Security Program

AGENCY: Coast Guard, DHS.

ACTION: Notice of availability.

SUMMARY: The Coast Guard announces the availability of Navigation and Vessel Inspection Circular (NVIC) 01-13, “Inspection and Certification of Vessels Under the Maritime Security Program (MSP).” The MSP serves as a means for establishing a fleet of commercially viable and militarily useful vessels to meet national defense as well as other security requirements. NVIC 01-13 sets forth the Coast Guard's policies and procedures regarding the inspection and certification of vessels under the MSP. NVIC 01-13 provides a comprehensive approach to the MSP inspection process through the establishment of two levels of MSP inspection and oversight.

DATES: NVIC 01-13 is effective as of February 28, 2013.

ADDRESSES: To view the documents mentioned in this notice, go to http://www.regulations.gov and use “USCG-2012-1156” as your search term. Locate this notice in the search results, and use the filters on the left side of the page to locate specific documents by type. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

FOR FURTHER INFORMATION CONTACT: If you have questions on this notice, call or email Mr. John Hannon, Domestic Vessels Division, U.S. Coast Guard; telephone 202-372-1222, email John.J.Hannon@uscg.mil. If you have questions on viewing material in the docket, call Docket Operations at 202-366-9826.

SUPPLEMENTARY INFORMATION: Viewing the NVIC and other documents: To view NVIC 01-13 and related documents, go to http://www.regulations.gov, use “USCG-2011-1156” as your search term, and follow the instructions in the ADDRESSES section above.

Background and Purpose

Title VI of the Merchant Marine Act of 1936, as amended by the Maritime Security Act of 1996 (MSA) (Pub. L. 104-239), authorized the establishment of a Maritime Security Fleet under the Maritime Security Program (MSP). The MSP serves as a means for establishing a fleet of commercially viable and militarily useful vessels to meet national defense as well as other security requirements.

The U.S. Maritime Administration (MARAD) Office of Sealift Support is the lead governmental office responsible for administration of the MSP. MARAD, in coordination with the Department of Defense, established a program whereby certain categories of militarily useful commercial vessels may be designated for emergency service to carry military cargo in time of war, national emergency, or military contingency. Some vessels enrolled in the MSP may receive a payment as part of their enrollment. Alternatively, vessels may enroll in other voluntary sealift support programs established by MARAD.

Section 53102(e) of Title 46 U.S.C. established standards for issuance of a Coast Guard Certificate of Inspection (COI) to a previously foreign-flagged vessel transitioning to U.S.-flagged once eligibility for the MSP has been established by MARAD and the Coast Guard. The statute does not specify the scope or manner of the inspections to be carried out by the Coast Guard to verify that MSP vessels fulfill requirements necessary to receive and maintain a COI.

The purpose of NVIC 01-13 is to provide the marine industry and Coast Guard personnel with uniform guidance regarding the MSP. Vessels that meet MSP enrollment criteria may obtain a COI by following the processes outlined in NVIC 01-13.

On January 19, 2012, the Coast Guard published a notice in the Federal Register announcing the availability of a draft NVIC 01-13 and requesting public comments on the draft (See 77 FR 2741). The Coast Guard recognized the need to avoid the inconsistent application of inspection procedures under the MSP. Accordingly, draft NVIC 01-13 outlined the inspection process for vessels transitioning from foreign-flag to U.S.-flag to obtain initial and ongoing certification under the MSP. To promote consistency and standardization of Coast Guard policies and procedures, draft NVIC 01-13 set forth a comprehensive approach to the MSP inspection process through the establishment of two levels of MSP inspection and oversight: (1) MSP (Regular); and (2) MSP Select. This two-level approach would enable the Coast Guard to apply traditional inspection methods to newly reflagged vessels, while at the same time apply a less stringent level of oversight to vessels that have consistently demonstrated satisfactory performance and substantial compliance with applicable rules. Newly enrolled MSP vessels would continue to be inspected by the Coast Guard in a manner similar to traditional Coast Guard inspections. After a period of evaluation, MSP vessels would be eligible to seek enrollment under MSP Select. MSP Select vessel oversight would consist of risk-based vessel examinations, periodic oversight, and evaluations of Authorized Class Society (ACS) survey activities.

We received eight public comment letters in response to the January 19, 2012 Federal Register notice. These comment letters contained a total of approximately 60 specific recommendations, suggestions, and other comments. We have created a document that provides a summary of each comment and the corresponding Coast Guard response. A copy of this public comment matrix is available for viewing in the public docket for this notice. You may access the docket going to http://www.regulations.gov, using “USCG-2011-1156” as your search term, and following the instructions in the ADDRESSES section above.

The basic framework of draft NVIC 01-13 described above is retained in the final version. The Coast Guard has made some changes from the draft version of NVIC 01-13 to the final version based on the public comments. A brief discussion of the most important changes is provided below. For more detailed information, please consult the actual public comment letters and public comment matrix in the docket.

(1) One commenter requested that we relax the standards for enrollment into the MSP Select Program by evaluating the ship operating company's regulatory compliance record over the most recent 5-year period. The commenter suggested that if the operator is found to be fully compliant during that period, all of its vessels should be permitted to enroll in MSP Select. We disagree. We believe that a vessel-specific approach is more appropriate for sufficiently and effectively evaluating regulatory compliance. While we disagree with the commenter's approach, we have decided to reduce the performance verification period from 5 years to 3 years in order to lessen the burden on vessel operators.

(2) In response to a commenter's request, we provided more detail regarding Marine Inspector requirements, requisite qualifications, and duties associated with the MSP. We have added the requested language in Sections 2.2.1. and 2.2.2. of NVIC 01-13.

(3) We received a number of comments pertaining to engine automation, the applicability of Engine International Air Pollution Prevention (EIAPP) certificates, and the procedures for underwater survey in lieu of drydocking (UWILD). In response to these comments, we provided additional clarification regarding vessel automation approval, EIAPP certification, and UWILD procedures.

This notice is issued under authority of 5 U.S.C. 552(a), 46 U.S.C. 53102(e), and Department of Homeland Security Delegation No. 0170.1(1).

Dated: February 22, 2013.
Paul F. Thomas,
Captain, U.S. Coast Guard, Director, Inspections and Compliance.

[FR Doc. 2013-04732 Filed 2-27-13; 8:45 am]

BILLING CODE 9110-04-P